CONSUMER PRODUCT SAFETY COMMISSION

Petition Requesting Mandatory Fire Safety Standards for Candles and Candle Accessories (Petition No. CP 04-1/HP 04-1)

AGENCY: Consumer Product Safety Commission.

ACTION: Notice.

SUMMARY: The United States Consumer Product Safety Commission (Commission or CPSC) has received a petition (CP 04-1/HP 04-1) requesting that the Commission issue mandatory fire safety standards for candles and candle accessories. The Commission solicits written comments concerning the petition.

DATES: The Office of the Secretary must receive comments on the petition by June 7, 2004.

ADDRESSES: Comments on the petition, preferably in five copies, should be mailed to the Office of the Secretary, Consumer Product Safety Commission, Washington, DC 20207, telephone (301) 504-0800, or delivered to the Office of the Secretary, Room 502, 4330 East-West Highway, Bethesda, Maryland 20814. Comments may also be filed by facsimile to (301) 504-0127 or by email to cpsc-os@cpsc.gov. Comments should be captioned “Petition CP 04-1/HP 04-1, Petition for Fire Safety Standards for Candles and Candle Accessories.” A copy of the petition is available for inspection at the Commission's Public Reading Room, Room 419, 4330 East-West Highway, Bethesda, Maryland. The petition is also available on the CPSC Web site at www.cpsc.gov.

FOR FURTHER INFORMATION CONTACT: Rockelle Hammond, Office of the Secretary, Consumer Product Safety Commission, Washington, DC 20207; telephone (301) 504-6833, e-mail rhammond@cpsc.gov.

SUPPLEMENTARY INFORMATION: The Commission has received correspondence from the National Association of State Fire Marshals (NASFM) requesting that the Commission issue mandatory fire safety standards for candles and candle accessories including candleholders. Specifically, NASFM requests that the CPSC adopt standards substantially based on the requirements contained in ASTM International Provisional Specifications for Fire Safety for Candles (PS59-02).

In addition, NASFM requests that the standards incorporate:

1. Flammability performance requirements for candle accessories, including candleholders;

2. End of useful life requirements for freestanding, tealight, taper, and votive candles;

3. End of useful life requirements for votive candles and taper candles mounted in appropriate candleholders; and

4. Miscibility and flash point requirements for gel candles.

NASFM asserts that such standards are needed because of the inherent danger posed by candles with their open flames, coupled with the increase in residential fires caused by candles over the past decade. NASFM provided information concerning deaths and injuries involving home candle fires.

The NASFM request that the CPSC adopt a standard substantially based on the requirements contained in ASTM International Provisional Specifications for Fire Safety for Candles (PS59-02), and additional requested items 1., 2., and 3. set forth above, is docketed as petition number CP 04-1 under the Consumer Product Safety Act, 15 U.S.C. 2051-2084. The NASFM request for a standard addressing miscibility and flash point requirements for gel candles is docketed as petition number HP 04-1 under the Federal Hazardous Substances Act, 15 U.S.C. 1261-1278.

Interested parties may obtain a copy of the petition by writing or calling the Office of the Secretary, Consumer Product Safety Commission, Washington, DC 20207; telephone (301) 504-0800. The petition is available on the CPSC Web site at www.cpsc.gov. A copy of the petition is also available for inspection from 8:30 a.m. to 5 p.m., Monday through Friday, in the Commission's Public Reading Room, Room 419, 4330 East-West Highway, Bethesda, Maryland.

Dated: March 30, 2004.
Todd A. Stevenson,
Secretary, Consumer Product Safety Commission.

[FR Doc. 04-7657 Filed 4-5-04; 8:45 am]

BILLING CODE 6355-01-P